DEPARTMENT OF VETERANS AFFAIRS

National Research Advisory Council; Notice of Meeting

The Department of Veterans Affairs (VA) gives notice under Public Law 92-463 (Federal Advisory Committee Act) that the National Research Advisory Council will meet at the Hyatt Dulles, 2300 Dulles Corner Boulevard, Herndon, VA 20171, on June 20, 2002, from 8:30 a.m. until 4 p.m. The meeting is open to the public. The purpose of the Council is to provide external advice and review for VA's research mission.

The meeting will begin with opening remarks and an overview by the Council Chairman. The Council will receive informational briefings on the VA Health Services Research Program, human subjects protection issues in VA and the peer review process.

Any member of the public wishing to attend the meeting or further information should contact Ms. Karen Scott, Department of Veterans Affairs, Office of Research and Development (12C2), 801 I Street, NW., Washington, DC at (202) 565-8381.

Dated: May 20, 2002.
By Direction of the Secretary.
Nora E. Egan,
Committee Management Officer.

[FR Doc. 02-13098 Filed 5-23-02; 8:45 am]

BILLING CODE 8320-01-M